FEDERAL RESERVE SYSTEM

Change in Bank Control Notices; Acquisitions of Shares of a Savings and Loan Holding Company

The notificants listed below have applied under the Change in Bank Control Act (12 U.S.C. 1817(j)) and the Board's Regulation LL (12 CFR Part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2013.

A. Federal Reserve Bank of Dallas (E. Ann Worthy, Vice President) 2200 North Pearl Street, Dallas, Texas 75201-2272:

1. Home Federal Bank Employee Stock Ownership Plan and Trust, and James R. Barlow, individually and as co-Trustee of Home Federal Bank Employee Stock Ownership Plan and Trust; and Clyde D. Patterson, all of Shreveport, Louisiana, individually and as co-Trustee of Home Federal Bank Employee Stock Ownership Plan and Trust, to acquire voting shares of Home Federal Bancorp, Inc. of Louisiana, and thereby indirectly acquire voting shares of Home Federal Bank, both in Shreveport, Louisiana.

Board of Governors of the Federal Reserve System, October 28, 2013.
Michael J. Lewandowski,
Associate Secretary of the Board.

[FR Doc. 2013-25935 Filed 10-30-13; 8:45 am]

BILLING CODE 6210-01-P